ELECTION ASSISTANCE COMMISSION

Sunshine Act Meeting

AGENCY: U.S. Election Assistance Commission.

ACTION: Notice of Public Meeting for EAC Board of Advisors (Amended).

DATE AND TIME: Monday, June 6, 2011, 8:30 a.m.-5:30 p.m. and Tuesday, June 7, 2011, 8:30 a.m.-3:30 p.m.

PLACE: Westin Washington, DC, City Center Hotel, 1400 M Street NW., Washington, DC 20005, Phone number (202) 429-1700.

PURPOSE: The U.S. Election Assistance Commission (EAC) Board of Advisors will meet to receive updates on EAC's program activities and budget. The Board will receive updates on the Voting System Testing and Certification program. The Board will hear updates from a special committee on Defining Issues of Voting System Sustainability. The Board will hear presentations by the National Institute of Standards and Technology (NIST) and the Federal Voting Assistance Program (FVAP) on UOCAVA internet voting and common data format. The Board will receive updates on EAC grants programs including: the Accessible Voting Technology Initiative; and the Pre-Election Logic and Accuracy Testing and Post-Election Audit Initiative. The Board will receive updates on EAC research and studies. The Board will hear a presentation on a Rutgers report on Voter Participation of People with Disabilities in 2010. The Board will hear other committee reports, elect officers and consider motions. The Board will consider other administrative matters.

Members of the public may observe but not participate in EAC meetings unless this notice provides otherwise. Members of the public may use small electronic audio recording devices to record the proceedings. The use of other recording equipment and cameras requires advance notice to and coordination with the EAC's Communications Office.

This meeting will be open for public observation.

STATEMENT OF EXCEPTIONAL CIRCUMSTANCES: The Monday, May 23, 2011 notice of the EAC Board of Advisors Meeting inadvertently omitted the fact that the notice would published in the Federal Register 14 days prior to the dates of the meeting instead of the required 15 days notice. Late notice was unavoidable due to the short timeline following the approval of the meeting agenda and the intent that the notice would publish on Friday, May 20, 2011.

PERSON TO CONTACT FOR INFORMATION: Bryan Whitener. Telephone: (202) 566-3100.

Thomas R. Wilkey,
Executive Director, U.S. Election Assistance Commission.

[FR Doc. 2011-13984 Filed 6-2-11; 4:15 pm]

BILLING CODE 6820-KF-P